SECURITIES AND EXCHANGE COMMISSION

[Release No. 34-99408; File No. SR-MIAX-2023-23]

Self-Regulatory Organizations; Miami International Securities Exchange, LLC; Notice of Withdrawal of Proposed Rule Change To Increase Fees for the ToM Market Data Product and Establish Fees for the cToM Market Data Product

January 22, 2024.

On June 7, 2023, Miami International Securities Exchange, LLC (“MIAX” or the “Exchange”) filed with the Securities and Exchange Commission (“Commission”), pursuant to section 19(b)(1) of the Securities Exchange Act of 1934 (“Act”),¹ and Rule 19b-4 thereunder,² a proposed rule change (File Number SR-MIAX-2023-23) to increase fees for the MIAX Top of Market (“ToM”) market data product and establish fees for the MIAX Complex Top of Market (“cToM”) market data product. The proposed rule change was immediately effective upon filing with the Commission pursuant to section 19(b)(3)(A) of the Act.³ The proposed rule change was published for comment in the Federal Register on June 26, 2023.⁴ On August 3, 2023, the Commission issued an order temporarily suspending the proposed rule change pursuant to section 19(b)(3)(C) of the Act ⁵ and simultaneously instituting proceedings under section 19(b)(2)(B) of the Act ⁶ to determine whether to approve or disapprove the proposed rule change.⁷ On December 20, 2023, pursuant to section 19(b)(2) of the Exchange Act,⁸ the Commission designated a longer period within which to issue an order approving or disapproving the proposed rule change.⁹ On January 17, 2024, the Exchange withdrew the proposed rule change (SR-MIAX-2023-23).

¹ 15 U.S.C. 78s(b)(1).

² 17 CFR 240.19b-4.

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ See Securities Exchange Act Release No. 97768 (June 20, 2023), 88 FR 41423 (“Notice”).

⁵ 15 U.S.C. 78s(b)(3)(C).

⁶ 15 U.S.C. 78s(b)(2)(B).

⁷ See Securities Exchange Act Release No. 98050, 88 FR 53941 (August 9, 2023) (“Order Instituting Proceedings”).

⁸ 15 U.S.C. 78s(b)(2).

⁹ See Securities Exchange Act Release No. 99210, 88 FR 89484 (December 27, 2023). The Commission designated February 21, 2024, as the date by which the Commission shall approve or disapprove the proposed rule change.

For the Commission, by the Division of Trading and Markets, pursuant to delegated authority.¹⁰
¹⁰ 17 CFR 200.30-3(a)(12).
Sherry R. Haywood,
Assistant Secretary.

[FR Doc. 2024-01510 Filed 1-25-24; 8:45 am]

BILLING CODE 8011-01-P